NATIONAL AERONAUTICS AND SPACE ADMINISTRATION

[Notice 02-136]

Government-Owned Inventions, Available for Licensing

ACTION: Notice of Availability of Inventions for Licensing.

SUMMARY: The inventions listed below are assigned to the National Aeronautics and Space Administration, have been filed in the United States Patent and Trademark Office, and are available for licensing.

DATES: November 12, 2002.

FOR FURTHER INFORMATION CONTACT: Edward Fein, Patent Counsel, Johnson Space Center, Mail Code HA, Houston, TX 77058-3696, telephone (281) 483-4871; fax (281) 244-8452.

NASA Case No. MSC-22330-1: Means to Provide Enhanced Protection from High-Density Orbital Debris Particles;

NASA Case No. MSC-22863-1: Centrifugal Adsorption Cartridge System (CACS);

NASA Case No. MSC-22996-1: Fluid Bubble Eliminator (FBE);

NASA Case No. MSC-23196-1: Design Concept For Load Selectable Constant Load Device For The Subject Load Device (SLD) And Resistive Exercise Device (RED) For The International Space Station;

NASA Case No. MSC-23424-1: Method for Identifying Sedimentary Bodies From Images and its Application to Mineral Exploration;

NASA Case No. MSC-23443-1: Method And Apparatus For Deploying A Hypervelocity Shield

Dated: November 4, 2002.
Robert M. Stephens,
Deputy General Counsel.

[FR Doc. 02-28564 Filed 11-8-02; 8:45 am]

BILLING CODE 7510-01-P